DEPARTMENT OF THE INTERIOR

Bureau of Land Management

[LLNMF000000.L14400000.ET0000 LXSSG0270000 234L1109AF; NMNM-144042]

Notice of Proposed Withdrawal and Public Meetings; San Juan County, NM; Correction

AGENCY: Bureau of Land Management, Interior.

ACTION: Notice; correction.

SUMMARY: This notice corrects the total acreage figure and the legal land description of the proposed public land withdrawal identified as the Chaco Culture National Historical Park Area withdrawal published in the Federal Register on January 6, 2022. The initial notice omitted legal descriptions totaling 3,188.01 acres. The updated total for the proposed withdrawal is 354,667.98 acres, located in San Juan, Sandoval, and McKinley Counties, New Mexico.

FOR FURTHER INFORMATION CONTACT: Sarah Scott, BLM Farmington Field Office, (505) 564-7689 or sscott@blm.gov, during regular business hours, 8 a.m. to 4:30 p.m., Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Correction

In the Federal Register of January 6, 2022, in FR Doc. 2021-28525, starting on page 786, in the second column, correct the following land descriptions:

New Mexico Principal Meridian, New Mexico

T. 20 N., R. 7 W.,

Sec. 1.

T. 19 N., R. 12 W.,

Sec. 32.

T. 20 N., R. 12 W.,

Sec. 5, lots 3 and 4.

T. 22 N., R. 12 W.,

secs. 3 and 5;

Sec. 33, NE¼.

T. 17 N., R. 13 W.,

Sec. 9, NW¼;

Sec. 25, NE¼.

T. 23 N., R 13 W.,

Sec. 2, SW¼SW¼.

Sec. 10, lots 7 and 8.

The area aggregates 3,188.01 acres.

(Authority: 43 CFR part 2300)

Melanie G. Barnes,
State Director, New Mexico.

[FR Doc. 2022-26947 Filed 12-12-22; 8:45 am]

BILLING CODE 4331-23-P